DEPARTMENT OF TRANSPORTATION

[DOT-OST-2023-0118]

Commercial eLoran Capability

AGENCY: Office of the Assistant Secretary for Research and Technology (OST-R), U.S. Department of Transportation (DOT).

ACTION: Request for Information (RFI).

SUMMARY: The U.S. Department of Transportation (DOT) is issuing this Request for Information (RFI) to determine if there is interest from private entities in offering a U.S. commercial enhanced Long Range Navigation (eLoran) service to the general public in the United States on a fee-for-service basis without any Federal investment, subsidy, procurement commitment or other commitment of credit or budgetary resources. If respondent has an interest in offering a U.S.-based commercial eLoran service on a fee-for-service basis, identify what impediments stand in the way of respondent offering a U.S. commercial eLoran service. If lack of access to any federally-controlled assets and non-budgetary assistance related to utilizing such federally-controlled assets are identified as impediments to offering such a service, a subsequent Request for Information may be issued to obtain additional data.

DATES: Responses should be filed by November 2, 2023. All questions concerning this RFI shall be emailed to PNT_RFI@dot.gov within 7 days of publication of this RFI. Questions and comments are highly encouraged, but DOT cannot commit to answering any question(s) received by DOT more than 7 calendar-days after the date on which this RFI is published.

ADDRESSES: You may file responses identified by the docket number DOT-OST-2023-0118 by any of the following methods:

• Federal Rulemaking Portal: go to https://www.regulations.gov and follow the online instructions for submitting comments.

• Mail: Docket Management Facility, U.S. Department of Transportation, 1200 New Jersey Ave., SE, West Building Ground Floor, Room W12-140, Washington, DC 20590-0001.

• Hand Delivery or Courier: West Building Ground Floor, Room W12-140, 1200 New Jersey Ave. SE, between 9 a.m. and 5 p.m. ET, Monday through Friday, except Federal holidays.

• Fax: (202) 493-2251.

When submitting questions and comments, please refer to the specific relevant text of this RFI. Each question submitted to DOT should be stated in such a way that there would be no objection to DOT's publishing that precise question (and its answer) in a formal Amendment to the RFI. That is, each question should be worded in such a way that the publication of that question (and its answer) would not divulge any information that would be considered proprietary or confidential. Further, any question concerning any apparent error, omission, or ambiguity in this RFI shall include the questioner's supporting rationale as well as a description of the remedies that the questioner is asking DOT to consider. All questions that DOT decides to answer will be collectively answered in writing.

Instructions: You must include the agency name and docket number DOT-OST-2023-0118 at the beginning of your submission. All submissions received will be posted without change to http://www.regulations.gov, including any personal information provided, unless proprietary and other sensitive information is so marked with requested disposition instructions.

Privacy Act: Anyone is able to search the electronic form of all submissions received in any of our dockets by the name of the individual submitting the document (or signing the submission, if submitted on behalf of an association, business, labor union, etc.). You may review DOT's complete Privacy Act statement in the Federal Register published on April 11, 2000 (65 FR 19477-78), or you may visit http://DocketsInfo.dot.gov.

Docket: For access to the docket and comments received, go to http://www.regulations.gov or to the street address listed above. Follow the online instructions for accessing the docket.

SUPPLEMENTARY INFORMATION:

1. Overview

The primary and most recognizable Positioning, Navigation, and Timing (PNT) service supporting critical infrastructure is the United States' Global Positioning System (GPS). However, because GPS relies on signals broadcast from satellites in Medium Earth Orbit (MEO), signal strength at the receiver is low and thus vulnerable to intentional and unintentional disruptions. In 2020, the U.S. Department of Transportation's Volpe National Transportation Systems Center (Volpe Center) conducted field demonstrations of candidate PNT technologies that could offer complementary service in the event of GPS disruptions. The purpose of the demonstrations was to gather information on PNT technologies at a high Technology Readiness Level (TRL) that can work in the absence of GPS.

Such PNT technologies complement GPS and increase PNT robustness to enhance national and homeland security by making critical infrastructure more resilient, and to improve efficiency of U.S. commercial transportation, telecommunications, energy, financial and industrial systems. The culmination of the Demonstration was the 2021 Report to Congress on Complementary PNT and GPS Backup Technologies Demonstration Report to Congress: https://rosap.ntl.bts.gov/view/dot/55765.

As a result of the 2021 DOT Report to Congress, DOT finds that:

(1) No single solution for the provision of Complementary PNT services can meet the diversity of critical infrastructure application requirements, and

(2) It would be inefficient and anti-competitive for the Federal Government to procure or otherwise fund a specific Complementary PNT solution for non-Federal users.

Rather than building or otherwise procuring a new system, DOT in partnership with the Department of Homeland Security, in support of Executive Order 13905, Strengthening National Resilience Through Responsible Use of Positioning, Navigation, and Timing Services, is better positioned to enable and encourage the owners and operators of critical infrastructure to be responsible users of PNT by leveraging commercially available PNT technologies to secure access to Complementary PNT services. The private sector is then encouraged to design critical infrastructure systems in a manner that recognizes the risk associated with the use of, and potential dependence on, external PNT services.

2. Responses

Responses are limited to ten (10) 8.5″ x 11″ pages with 1″ margins, and 12-point font (Arial or Times New Roman), not including financial tables, appendices and other supporting materials which shall have no limitation. Pages must be numbered and submitted electronically via email as Microsoft Word or Adobe Acrobat files. Please send responses to the contact information provided in the For Further Information Contact section of the notice.

Abbreviations should be defined either on first use or in a glossary. Charts and graphics should have quantitative data clearly labeled. Assumptions should be clearly identified. Proprietary and other sensitive information should be so marked with requested disposition instructions. Submitted responses shall be UNCLASSIFIED unless prior arrangements are made with the Contracting Office. Submitted materials will not be returned.

This is an RFI only. This request is for information purposes, and shall not be construed as a solicitation announcement, invitation for bids, request for proposals or quotes, or an indication that the Government will contract for the items contained in this notice.

Additionally, responses will be treated only as information for the Government to consider. Respondents will not be entitled to payment for direct or indirect costs that are incurred in responding to this RFI. Further, this request does not constitute a solicitation for proposals or the authority to enter into negotiations to award a contract. Interested parties are responsible for adequately marking proprietary, restricted or competition sensitive information contained in their responses.

Issued In Washington, DC.
Robert C. Hampshire,
Deputy Assistant Secretary for Research and Technology, U.S. Department of Transportation.

[FR Doc. 2023-21767 Filed 10-2-23; 8:45 am]

BILLING CODE 4910-9X-P